ENVIRONMENTAL PROTECTION AGENCY

[ER-FRL-9030-6]

Environmental Impact Statements; Notice of Availability

Responsible Agency: Office of Federal Activities, General Information (202) 564-7146 or http://www.epa.gov/nepa.

Weekly receipt of Environmental Impact Statements

Filed 11/28/2016 Through 12/02/2016

Pursuant to 40 CFR 1506.9.

Notice

Section 309(a) of the Clean Air Act requires that EPA make public its comments on EISs issued by other Federal agencies. EPA's comment letters on EISs are available at: http://www.epa.gov/compliance/nepa/eisdata.html.

EIS No. 20160285, Draft, USFWS, WA, Long-term Conservation Strategy for the Marbled Murrelet, Comment Period Ends: 03/09/2017, Contact: Mark Ostwald 360-753-9564.

EIS No. 20160286, Draft, USACE, NJ, Rahway River Basin Flood Risk Management Plan, Comment Period Ends: 01/23/2017, Contact: Kimberly Rightler 908-850-8113.

EIS No. 20160287, Final, USFWS, WY, Eagle Take Permits for the Chokecherry and Sierra Madre Phase I Wind Energy Project, review period ends: 01/09/2017, Contact: Louise Galiher 303-236-8677.

EIS No. 20160288, Final, APHIS, NAT, Petition (15-300-01p) for Determination of Nonregulated Status for ASR368 Creeping Bentgrass, review period ends: 01/09/2017, Contact: Sidney W. Abel 301-851-3896.

EIS No. 20160289, Final, FERC, OH, Nexus Gas Transmission Project and Texas Eastern Appalachian Lease Project, review period ends: 01/09/2017, Contact: Joanne Wachholder 202-502-8056.

EIS No. 20160290, Final, NPS, NC, Cape Lookout National Seashore Off-Road Vehicle Management Plan, review period ends: 01/09/2017, Contact: Michael B. Edwards 303-969-2694.

EIS No. 20160291, Final, USFWS, CA, Lower Klamath, Clear Lake, Tule Lake, Upper Klamath, and Bear Valley National Wildlife Refuges, Final Comprehensive Conservation Plan, review period ends: 01/09/2017, Contact: Mark Pelz 916-414-6504.

EIS No. 20160292, Final, NPS, CA, Golden Gate National Recreation Area Dog Management Plan, review period ends: 01/09/2017, Contact: Michael Edwards 303-969-2694.

EIS No. 20160293, Final, NPS, VA, ADOPTION—Potomac Yard Metrorail Station, Contact: Dan Koenig 202-219-3528.

The U.S. Department of the Interior's National Park Service has adopted the U.S. Department of Transportation's Federal Transit Authority's FEIS #20160133, file 07/11/2016 with the EPA.

NPS was a cooperating agency for the above project. Therefore, recirculation of the document is not necessary under Section 1056.3(c) of the Council on Environmental Quality.

Amended Notices

EIS No. 20160218, Draft, BR, AZ, Navajo Generating Station-Kayenta Mine Complex Project, Comment Period Ends: 12/29/2016, Contact: Sandra Eto 623-773-6254 Revision to the FR Notice Published 09/30/2016; Extending the Comment Period from 11/29/2016 to 12/29/2016.

Dated: December 6, 2016.
Dawn Roberts,
Management Analyst, NEPA Compliance Division, Office of Federal Activities.

[FR Doc. 2016-29578 Filed 12-8-16; 8:45 am]

BILLING CODE 6560-50-P